DEPARTMENT OF COMMERCE

Bureau of Economic Analysis

Submission for OMB Review; Comment Request

The Department of Commerce will submit to the Office of Management and Budget (OMB) for clearance the following proposal for collection of information under the provisions of the Paperwork Reduction Act (44 U.S.C. Chapter 35).

Agency: Bureau of Economic Analysis (BEA), Commerce.

Title: Survey of New Foreign Direct Investment in the United States.

OMB Control Number: 0608-0035.

Form Number: BE-13.

Type of Request: Regular submission.

Number of Responses: 2,400 annually.

Estimated Number of Respondents: 2,400 annually, of which approximately 600 file A forms, 180 file B forms, 80 file D forms, 340 file E forms, and 1,200 file Claim for Exemption forms.

Estimated Total Annual Burden Hours: 2,547 hours. Total annual burden is calculated by multiplying the estimated number of submissions of each form by the average hourly burden per form, which is 2.5 hours for the A form, 2.2 hours for the B form, 1.2 hours for the D form, 0.75 hours for the E form, and 0.25 hours for the Claim for Exemption form.

Estimated Time per Respondent: 1.1 hours per respondent (2,547 hours/2,400 respondents) is the average but may vary among respondents because of differences in company size and complexity.

Needs and Uses: The Survey of New Foreign Direct Investment in the United States (BE-13) collects information on the acquisition and establishment of U.S. business enterprises by foreign investors and on expansions by existing U.S. affiliates of foreign companies. The data collected on the survey are used to measure the amount of new foreign direct investment in the United States, assess the impact on the U.S. economy, and ensure complete coverage of BEA's other foreign direct investment statistics. This mandatory BE-13 survey is required from business enterprises subject to the reporting requirements, whether or not they are contacted by BEA. Business enterprises contacted by BEA that do not meet the reporting requirements are required to respond to indicate that they do not meet the requirements.

Affected Public: Businesses or other for-profit organizations.

Frequency: Forms BE-13A, BE-13B, BE-13D, and BE-13 Claim for Exemption are filed once for a new investment. Form BE-13 E is filed annually until the establishment or expansion of the business enterprise is complete.

Respondent's Obligation: Mandatory.

This information collection request may be viewed at www.reginfo.gov. Follow the instructions to view Department of Commerce collections currently under review by OMB.

Written comments and recommendations for the proposed information collection should be sent within 30 days of publication of this notice to OIRA at Submission@omb.eop.gov or fax to (202) 395-5806.

Sheleen Dumas,
Departmental Lead PRA Officer, Office of the Chief Information Officer, Commerce Department.

[FR Doc. 2019-18228 Filed 8-22-19; 8:45 am]

BILLING CODE 3510-06-P